DEPARTMENT OF COMMERCE

National Oceanic and Atmospheric Administration

[I.D. 010901E]

Western Pacific Fishery Management Council; Public Meeting

AGENCY: National Marine Fisheries Service (NMFS), National Oceanic and Atmospheric Administration (NOAA), Commerce.

ACTION: Notice of public meeting.

SUMMARY: The 76th meeting of the Western Pacific Fishery Management Council’s (Council) Scientific and Statistical Committee (SSC) will convene January 30 through February 1, 2001, in Honolulu, HI.

DATES: The SSC meeting will be held from 9 a.m. to 5 p.m. on January 30 and from 8:30 a.m. to 5 p.m. on January 31 and February 1, 2001.

ADDRESS: The 76th SSC meeting will be held at the Council office conference room, 1164 Bishop St., Suite 1400, Honolulu, HI; telephone: (808-522-8220).

Council address: Western Pacific Fishery Management Council, 1164 Bishop St., Suite 1400, Honolulu, HI 96813.

FOR FURTHER INFORMATION CONTACT: Kitty M. Simonds, Executive Director; telephone: 808-522-8220.

SUPPLEMENTARY INFORMATION: The SSC will discuss and may make recommendations to the Council on the agenda items below. The order in which agenda items will be addressed can change.

Tuesday, January 30, 2001, 9 a.m.

1. Precious corals fisheries

A. Status of 2000 framework adjustment regarding Hawaiian Islands exploratory area quota increase

B. Growth rates of gold coral

C. November research surveys

D. Summary of Draft Environmental Impact Statement (DEIS)

E. Plan Team recommendations

2. Crustaceans fisheries (Northwestern Hawaiian Islands [NWHI] lobsters)

A. Status of framework closure of fishery

B. Status of spring research tagging charter

C. Status of plans for 5-year review/technical review panel

D. Status of DEIS

3. Bottomfish fisheries

A. Status of the NWHI stocks

B. Status of litigation

C. Status of DEIS

Wednesday, January 31, 2001, 8:30 a.m.

4. Pelagic fisheries

A. 3rd quarter 2000 Hawaii and American Samoa longline fishery reports

Exclusion of purse seiners from provisions of 50 nm closed area around American Samoa

B. Turtle management

(1) Pelagic EIS: NMFS preferred alternative

(2) NMFS Biological opinion, recommended measures

(3) Turtle Mitigation Working Group

(4) Atlantic Turtle Working Group (TWG)

(5) Turtle Recovery Plan

(6) Criteria for de-listing species under Endangered Species Act (ESA)

C. Shark management

Amendment 9 blue shark quota following state & federal finning bans

D. Seabird management

U.S. Fish & Wildlife (FWS) Biological opinion on short-tailed albatross and Council recommended mitigation regime

E. Kingman Reef Environmental Assessment(EA)

F. Hawaii offshore handline fishery and gear conflicts at Cross seamount

G. Other issues

Thursday, February 1, 2001, 8:30 a.m.

5. Ecosystem and Habitat

A. Draft Coral Reef Ecosystem FMP/DEIS

(1) Aspects for further discussion

(2) Review of (initial) public/agency comments

B. Impacts of Clinton’s Executive Order (EO) on NWHI fisheries

C. Marine/wildlife inventory at remote atolls

D. Other issues

6. De-listing of protected species (green sea turtle)/allowing for cultural take

7. Other business

8. Schedule for 2001

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

This meeting is physically accessible to people with disabilities. Requests for sign language interpretation or other auxiliary aids should be directed to Kitty M. Simonds, 808-522-8220 (voice) or 808-522-8226 (fax), at least 5 days prior to meeting date.

Dated: January 10, 2001.
Richard W. Surdi,
Acting Director, Office of Sustainable Fisheries, National Marine Fisheries Service.

[FR Doc. 01-1215 Filed 1-12-01; 8:45 am]

BILLING CODE: 3510-22-S